DEFENSE NUCLEAR FACILITIES SAFETY BOARD

Sunshine Act Notice

AGENCY: Defense Nuclear Facilities Safety Board.

ACTION: Notice of public hearing and meeting.

SUMMARY: Pursuant to the provisions of the “Government in the Sunshine Act” (5 U.S.C. 552b), notice is hereby given of the Defense Nuclear Facilities Safety Board's (Board) public hearing and meeting described below. The Board will conduct a public hearing and meeting pursuant to 42 U.S.C. 2286b and invites any interested persons or groups to present any comments, technical information, or data concerning safety issues related to the matters to be considered.

TIME AND DATE OF MEETING: Session I: 1-5 p.m., November 17, 2011; Session II: 7-9 p.m., November 17, 2011.

PLACE: Santa Fe Community Convention Center, 201 West Marcy Street, Santa Fe, New Mexico 87501. Parking will be available at no cost.

STATUS: Open. While the Government in the Sunshine Act does not require that the scheduled discussion be conducted in a meeting, the Board has determined that an open meeting in this specific case furthers the public interests underlying both the Sunshine Act and the Board's enabling legislation.

MATTERS TO BE CONSIDERED: In this public hearing and meeting, the Board wishes to further explore safety matters and gather other information related to public and worker health and safety for defense nuclear facilities at the Los Alamos National Laboratory (LANL). During Session I, the Board will examine the seismic safety of the Plutonium Facility. The Board will receive testimony on National Nuclear Security Administration (NNSA) actions to address Plutonium Facility seismic vulnerabilities that lead to severe postulated accident scenarios. The Board is also interested in the status of actions identified in NNSA's response to the Board's Recommendation 2009-2, Los Alamos National Laboratory Plutonium Facility Seismic Safety, which was issued on October 26, 2009. The Board will also examine the status of emergency preparedness at the laboratory and will receive testimony concerning how well NNSA and its contractor are prepared to respond to site emergencies, including threats from natural phenomena. The Board is also interested in lessons learned from the events at the Fukushima Daiichi complex, the recent Las Conchas fire, and the 2000 Cerro Grande fire and the actions taken to incorporate these lessons learned at the site-wide level and in defense nuclear facility operations. During Session II, the Board will examine NNSA's efforts to mitigate risks to public and worker safety posed by existing aging defense nuclear facilities and NNSA's efforts to ensure the integration of safety-in-design for modern replacement facilities. The Board will receive testimony on the operations and safety basis at existing LANL defense nuclear facilities, including the Chemistry and Metallurgy Research Building, Area G in Technical Area-54, and the Radioactive Liquid Waste Treatment Facility. The Board will also receive testimony on the integration of safety-in-design for the Chemistry and Metallurgy Research Replacement project, the new Transuranic Waste Facility, and the Radioactive Liquid Waste Treatment Facility Upgrade project. The public hearing portion of this proceeding is authorized by 42 U.S.C. 2286b.

CONTACT PERSON FOR MORE INFORMATION: Brian Grosner, General Manager, Defense Nuclear Facilities Safety Board, 625 Indiana Avenue, NW., Suite 700, Washington, DC 20004-2901, (800) 788-4016. This is a toll-free number.

SUPPLEMENTARY INFORMATION: Public participation in the hearing is invited. The Board is setting aside thirty minutes at the end of each session of the hearing for presentations and comments from the public. Requests to speak may be submitted in writing or by telephone. The Board asks that commentators describe the nature and scope of their oral presentations. Those who contact the Board prior to close of business on November 10, 2011, will be scheduled to speak at the session of the hearing most relevant to their presentations. At the beginning of Session I, the Board will post a schedule for speakers at the entrance to the hearing room. Anyone who wishes to comment or provide technical information or data may do so in writing, either in lieu of, or in addition to, making an oral presentation. The Board Members may question presenters to the extent deemed appropriate. Documents will be accepted at the meeting or may be sent to the Board's Washington, DC, office. The Board will hold the record open until December 19, 2011, for the receipt of additional materials. A transcript of the meeting, along with DVD video recordings of both sessions, will be made available by the Board for inspection and viewing by the public at the Board's Washington office and at the Department of Energy's (DOE) public reading room at the DOE Federal Building, 1000 Independence Avenue, SW., Washington, DC 20585. The Board specifically reserves its right to further schedule and otherwise regulate the course of the meeting and hearing, to recess, reconvene, postpone, or adjourn the meeting and hearing, conduct further reviews, and otherwise exercise its power under the Atomic Energy Act of 1954, as amended.

Dated: September 30, 2011.
Jessie H. Roberson,
Vice Chairman.

[FR Doc. 2011-25782 Filed 9-30-11; 4:15 pm]

BILLING CODE 3670-01-P